SECURITIES AND EXCHANGE COMMISSION

[Release No. 34-45843; File No. S7-12-02]

Draft Data Quality Assurance Guidelines

AGENCY: Securities and Exchange Commission.

ACTION: Notice of draft guidelines and request for comments.

SUMMARY: The Securities and Exchange Commission has posted on its website at www.sec.gov draft data quality assurance guidelines. The guidelines describe procedures for ensuring and maximizing the quality of information before it is disseminated to the public, and the procedures by which an affected person may obtain correction, where appropriate, of disseminated information that does not comply with the guidelines. Comments will be considered in developing final data quality assurance guidelines.

DATES: Comments must be received on or before June 3, 2002.

ADDRESSES: You should send three copies of your comments to Jonathan G. Katz, Secretary, U.S. Securities and Exchange Commission, 450 Fifth Street, NW., Washington, DC 20549-0609. You also may submit your comments electronically to the following address: dataquality@sec.gov. All comment letters should refer to File No. S7-12-02; this file number should be included in the subject line if you use electronic mail. Comment letters will be available for public inspection and copying at the Commission's Public Reference Room, 450 Fifth Street, NW., Washington, DC 20549-0102. We will post electronically submitted comment letters on the Commission's Internet Web site (http://www.sec.gov). We do not edit personal identifying information, such as names or electronic mail addresses, from electronic submissions. Submit only information you wish to make publicly available.

FOR FURTHER INFORMATION CONTACT: Questions about the draft guidelines should be referred to David Fredrickson or Monette Dawson, Office of the General Counsel (202) 942-0890 or (202) 942-0870, Securities and Exchange Commission, 450 Fifth Street, NW., Washington, DC 20549-0606.

By the Commission.
Dated: April 29, 2002.
Jill M. Peterson,
Assistant Secretary.

[FR Doc. 02-10931 Filed 4-29-02; 2:49 pm]

BILLING CODE 8010-01-U